INTERNATIONAL TRADE COMMISSION

[Investigation No. 337-TA-532]

In the Matter of Certain Automotive Fuel Caps and Components Thereof; Notice of Commission Determination Not to Review an Initial Determination Granting a Motion To Withdraw the Complaint and Terminate the Investigation

AGENCY: International Trade Commission.

ACTION: Notice.

SUMMARY: Notice is hereby given that the United States International Trade Commission has determined not to review the administrative law judge's (“ALJ”) initial determination (“ID”) granting Complainant's motion to withdraw the complaint and terminate the above-referenced investigation.

FOR FURTHER INFORMATION CONTACT: Michelle Walters, Esq., Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission based on a complaint filed by Stant Manufacturing, Inc. of Connersville, Indiana (“Stant”). See 70 FR 12239 (March 11, 2005). The complaint alleged violations of section 337 of the Tariff Act of 1930 in the importation into the United States, the sale for importation, and the sale in the United States after importation of certain automotive fuel caps and components thereof by reason of infringement of United States Patent Nos. 5,449,086, 5,794,806, 5,480,055, and 4,678,097. The complaint named five respondents, including Gerdes GmbH, of Germany, Gerdes BVBA, or Belgium, Theodor Gerdes, Ralf Gerdes, and Monika Gerdes, all of Germany (collectively, “Gerdes”).

On May 16, 2005, Stant filed a motion to terminate the investigation based on withdrawal of its complaint. Gerdes opposed Stant's motion for termination and further requested that, pursuant to rule 210.25(a)(2), the ALJ sua sponte impose sanctions on Stant for abuse of Commission process. The Commission's Investigative Attorney (“IA”), however, supported Stant's motion to terminate.

The ALJ granted Stant's motion to terminate the investigation based on withdrawal of the complaint on June 10, 2005, but declined to impose sanctions on Stant (ID, Order No. 10). Gerdes filed a Petition for Review of the ID on June 17, 2005. Stant filed a response to Gerdes's petition on June 24, 2005, and the IA filed a response on June 23, 2005.

Having considered the ALJ's rationale and the arguments made by the Parties, the Commission has determined not to review the ALJ's ID granting Complainant's motion to terminate the investigation on the basis of withdrawal of the complaint. Accordingly, the above-referenced investigation is hereby terminated.

The authority for the Commission's determination is contained in section 337 of the Tariff Act of 1930, as amended (19 U.S.C. 1337), and in sections 210.42 to 210.46 of the Commission's Rules of Practice and Procedure (19 CFR 210.42-210.46).

Issued: July 7, 2005.
By order of the Commission.
Marilyn R. Abbott,
Secretary to the Commission.

[FR Doc. 05-13611 Filed 7-11-05; 8:45 am]

BILLING CODE 7020-02-M